DEPARTMENT OF ENERGY

Federal Energy Regulatory Commission

[Docket No. RP00-107-008]

Williston Basin Interstate Pipeline Company; Notice of Refund Report

June 7, 2005.

Take notice that on June 1, 2005, Williston Basin Interstate Pipeline Company (Williston Basin) tendered for filing its refund report in compliance with the Commission's April 19, 2005, “Order on Compliance Filing and Motion for Refunds” (Commission Order).

Williston Basin states that on May 18, 2005, refunds of amounts owed to shippers were sent by overnight delivery to Williston Basin's shippers. Williston Basin explains that the refunds are related to rates that were in effect for the period June 1, 2000 through April 18, 2005 with interest calculated through May 19, 2005.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on June 14, 2005.

Magalie R. Salas,
Secretary.

[FR Doc. E5-3027 Filed 6-10-05; 8:45 am]

BILLING CODE 6717-01-P